DEPARTMENT OF HOMELAND SECURITY

Coast Guard

33 CFR Parts 166 and 167

[Docket No. USCG-2019-0279]

Shipping Safety Fairways Along the Atlantic Coast; Geographic Information System Files

AGENCY: Coast Guard, DHS.

ACTION: Notice of availability.

SUMMARY: The Coast Guard published a proposed rule detailing the potential establishment of shipping safety fairways along the Atlantic coast. In order to help stakeholders visualize the proposed fairways, the Coast Guard is making geographic information system files available for public access.

DATES: Comments submitted on the proposed rule published January 19, 2024, at 89 FR 3587, must be received by the Coast Guard on or before April 18, 2024.

FOR FURTHER INFORMATION CONTACT: For information about this document call or email Maureen Kallgren, Coast Guard; telephone 202-372-1561, email Maureen.R.Kallgren2@uscg.mil.

SUPPLEMENTARY INFORMATION: The Coast Guard published a proposed rule on January 19, 2024, proposing a series of shipping safety fairways along the Atlantic Coast (89 FR 3587). If you want to submit comments or related material on the proposed rule they must be received by the Coast Guard on or before April 18, 2024.

In order to visualize the dimensions of the proposed fairways, many stakeholders reached out and asked for the geographic information system (GIS) files that chart the fairways. A GIS file displays geographically referenced information, in this case the location and dimensions of the proposed fairways. These files are now available for public access at https://www.navcen.uscg.gov/rulemaking-files.

This document is issued under authority found in 5 U.S.C. 552(a).

Dated: February 6, 2024.
Steven E. Ramassini,
Captain, United States Coast Guard, Chief, Office of Navigation Systems.

[FR Doc. 2024-02769 Filed 2-12-24; 8:45 am]

BILLING CODE 9110-04-P